DEPARTMENT OF STATE

[Public Notice: 10104]

Certification Pursuant to Section 7045(a)(4)(A) of the Department of State, Foreign Operations, and Related Programs Appropriations Act, 2017

By virtue of the authority vested in me as the Secretary of State, including pursuant to section 7045(a)(4)(A) of the Department of State, Foreign Operations, and Related Programs Appropriations Act, 2017 (Div. J, Pub. L. 115-31), I hereby certify that the central government of El Salvador is taking effective steps, which are in addition to those steps taken since the certification and report submitted during the prior year, to:

• Inform its citizens of the dangers of the journey to the southwest border of the United States;

• combat human smuggling and trafficking;

• improve border security, including to prevent illegal migration, human smuggling and trafficking, and trafficking of illicit drugs and other contraband; and

• cooperate with United States Government agencies and other governments in the region to facilitate the return, repatriation, and reintegration of illegal migrants arriving at the southwest border of the United States who do not qualify for asylum, consistent with international law.

This certification shall be published in the Federal Register and, along with the accompanying Memorandum of Justification, shall be reported to Congress.

Dated: August 22, 2017.
Rex W. Tillerson,
Secretary of State.

[FR Doc. 2017-18303 Filed 8-28-17; 8:45 am]

BILLING CODE 4710-29-P